DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 84583-84591 dated November 23, 2016) is amended to reflect the reorganization of the Office of the Chief Operating Officer, Office of the Director, Centers for Disease Control and Prevention.

Section C-B, Organization and Functions, is hereby amended as follows:

Delete in its entirety the functional statement for the Freedom of Information Act Office (CAJR13), Office of the Chief Information Officer (CAJR), Office of the Chief Operating Officer (CAJ).

After the functional statement for the Office of the Director (CAJ1), Office of the Chief Operating Officer (CAJ), insert the following:

Freedom of Information Act Office (CAJ12). (1) Leads and administers the Freedom of Information Act (FOIA) program for CDC and ATSDR; (2) reviews, analyzes, redacts as necessary, and releases documents to the public under the provisions of the Act; (3) tracks and monitors FOIA requests and responses to ensure timely and appropriate responses; (4) provides guidance to employees, supervisors, management, the Office of the General Counsel and high-level agency officials on various aspects of the Act; (5) interprets and applies legal and technical precedents, laws and regulations relating to FOIA issues; and (6) provides training to program staff and management concerning FOIA requirements and processing.

Sherri A. Berger,
Chief Operating Officer, Centers for Disease Control and Prevention.

[FR Doc. 2017-26149 Filed 12-4-17; 8:45 am]

BILLING CODE 4160-18-P